DEPARTMENT OF COMMERCE

International Trade Administration

[A-570-912]

Certain New Pneumatic Off-the-Road Tires From the People's Republic of China: Rescission of Antidumping Duty Administrative Review; 2011-2012

AGENCY: Import Administration, International Trade Administration, Department of Commerce

DATES: Effective Date: June 3, 2013

FOR FURTHER INFORMATION CONTACT: Brooke Kennedy, AD/CVD Operations, Import Administration, International Trade Administration, U.S. Department of Commerce, 14th Street and Constitution Avenue NW., Washington, DC 20230; telephone: (202) 482-3818.

SUPPLEMENTARY INFORMATION:

Background

On September 4, 2012, the Department of Commerce (“the Department”) published in the Federal Register a notice of “Opportunity to Request Administrative Review” of the antidumping duty order on certain new pneumatic off-the-road tires from the People's Republic of China (“PRC”) for the period of review (“POR”) September 1, 2011, through August 31, 2012.¹

¹ See Antidumping or Countervailing Duty Order, Finding, or Suspended Investigation; Opportunity to Request Administrative Review, 77 FR 53863 (September 4, 2012).

On September 28, 2012, and October 1, 2012, in accordance with section 751(a) of the Tariff Act of 1930, as amended (“the Act”), and 19 CFR 351.213(b), the Department received a timely request from Shandong Ling Long Tyre Co., Ltd. (“Linglong”) and Hangzhou Zhongce Rubber Co., Ltd. (“Zhongce”), respectively, to conduct an administrative review of the antidumping duty order with regard to its exports to the United States during the POR.

On October 31, 2012, the Department published in the Federal Register a notice of initiation of an administrative review of the antidumping duty order on certain new pneumatic off-the-road tires, with respect to the above-named companies.²

² See Initiation of Antidumping and Countervailing Duty Administrative Reviews and Request for Revocation in Part, 77 FR 65858 (October 31, 2012).

On December 10, 2012, Zhongce timely withdrew its request for a review and, on January 29, 2013, Linglong timely withdrew its request for a review.

Rescission

Pursuant to 19 CFR 351.213(d)(1), the Department will rescind an administrative review, in whole or in part, if the parties that requested a review withdraw the request within 90 days of the date of publication of notice of initiation of the requested review. Linglong and Zhongce withdrew their requests for review before the 90-day deadline, and no other party requested an administrative review of the antidumping duty order on new pneumatic off-the-road tires from the PRC for the POR. Therefore, in response to Linglong's and Zhongce's withdrawal of requests for review and pursuant to 19 CFR 351.213(d)(1), we are fully rescinding this review.

Assessment

The Department will instruct U.S. Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (“APO”) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: May 28, 2013.
Christian Marsh,
Deputy Assistant Secretary for Antidumping and Countervailing Duty Operations.

[FR Doc. 2013-13087 Filed 5-31-13; 8:45 am]

BILLING CODE 3510-DS-P